DEPARTMENT OF TRANSPORTATION

Pipeline and Hazardous Materials Safety Administration

[Docket No. PHMSA-2018-0042]

Pipeline Safety: Request for Special Permit

AGENCY: Pipeline and Hazardous Materials Safety Administration (PHMSA); Department of Transportation (DOT).

ACTION: Notice.

SUMMARY: On June 3, 2019, PHMSA granted special permit PHMSA-2018-0042 to Golden Pass LNG Terminal LLC (GPLNG) for a six-year term, which will expire on June 2, 2025. PHMSA-2018-0042 waives compliance from certain regulations for the liquefied natural gas (LNG) import terminal (GPLNG Terminal) located in Jefferson County, Texas. PHMSA is publishing this notice to solicit public comments on a request from GPLNG to extend the term for special permit PHMSA-2018-0042 until June 2, 2028. At the conclusion of the 30-day comment period, PHMSA will review the comments received from this notice as part of its evaluation to grant or deny the special permit request.

DATES: Submit any comments regarding this special permit request by July 10, 2025.

ADDRESSES: Comments should reference the docket number for this special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: Identify the docket number for the special permit request at the beginning of your comments. If you submit your comments by mail, please submit two copies. To receive confirmation that PHMSA has received your comments, please include a self-addressed stamped postcard. Internet users may submit comments at http://www.regulations.gov.

Note: A privacy statement is published on https://www.regulations.gov. Comments, including any personal information provided, are posted without changes or edits to https://www.regulations.gov.

Confidential Business Information

Confidential Business Information (CBI) is commercial or financial information that is both customarily and actually treated as private by its owner. Under the Freedom of Information Act (FOIA) (5 United States Code 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Lee Cooper, DOT, PHMSA-PHP-80, 1200 New Jersey Avenue SE, Washington, DC 20590-0001. Any commentary PHMSA receives that is not specifically designated as CBI will be placed in the public docket for this matter.

FOR FURTHER INFORMATION CONTACT:

General: Mr. Lee Cooper by phone at 202-913-3171 or by email at lee.cooper@dot.gov.

Technical: Mr. Thach Nguyen by phone at 909-262-4464 or by email at thach.d.nguyen@dot.gov.

SUPPLEMENTARY INFORMATION: On December 3, 2024, PHMSA received a request from GPLNG to renew special permit PHMSA-2018-0042 for three more years after the expiration date, which will extend the term of the special permit until June 3, 2028. Special permit PHMSA-2018-0042 allows GPLNG to deviate from the Federal pipeline safety regulations in 49 CFR 193.2603(a) and (b); 193.2607; 193.2609; 193.2619(c) and (e); 193.2631; and 193.2635(e) at the GPLNG Terminal, where all LNG facilities are under nitrogen purge. The GPLNG Terminal has not been operational since June 2012.

PHMSA granted special permit PHMSA-2018-0042 on June 3, 2019 with an original expiration date of June 2, 2025 for the GPLNG Terminal located in Jefferson County, Texas. The GPLNG Terminal consists of marine berths, LNG storage tanks, vaporization facilities, and other supporting facilities for LNG import operations. The additional three-year term will allow GPLNG to complete construction of the export facilities, including three liquefaction trains, and connect them to the existing facilities at the GPLNG Terminal for LNG export operations.

GPLNG's renewal request, active special permit with conditions, and final environmental assessment (FEA) are available for review and public comment in Docket No. PHMSA-2018-0042. The existing FEA, with a conclusion of no significant negative impact, remains adequate, pursuant to the National Environmental Policy Act of 1969, as amended (42 U.S.C. 4321 et seq.). No further environmental assessment is required for this proposal. PHMSA invites interested persons to review and submit comments in the docket on the special permit renewal request. Please submit comments on any potential safety, environmental, and other relevant considerations implicated by the special permit renewal request. Comments may include relevant data.

Before issuing a decision on the special permit request, PHMSA will evaluate all comments received on or before the closing date. Comments received after the closing date will be evaluated if it is possible to do so without incurring additional expense or delay. PHMSA will consider each relevant comment it receives in making its decision to grant or deny this special permit request.

Issued in Washington, DC, on June 2, 2025 under authority delegated in 49 CFR 1.97.
Linda Daugherty,
Acting Associate Administrator for Pipeline Safety.

[FR Doc. 2025-10345 Filed 6-9-25; 8:45 am]

BILLING CODE 4910-60-P